DEPARTMENT OF ENERGY

Federal Energy Regulatory Commission

[Docket No. RP03-312-000]

Calpine Energy Services, L.P., Complainant, v. Southern Natural Gas Company, Respondent; Notice of Complaint

March 28, 2003.

Take notice that on March 26, 2003, Calpine Energy Services, L.P. (CES) filed a Complaint against Southern Natural Gas Company (Sonat) requesting that the Federal Energy Regulatory Commission (Commission) find that (1) Sonat's collateral demands on CES regarding the South System II project contravene the terms of its Service Agreement with CES; (2) that Sonat's collateral demands contravene the Sonat tariff; (3) that Commission creditworthiness policies permit pipelines to demand collateral assurances up to twelve months of demand charges during the construction period under appropriate circumstances only if authorized by the pipeline's tariff or otherwise approved by the Commission; (4) that the Service Agreement and Sonat's tariff do not authorize collateral assurances in excess of three months of demand charges; (5) that, as described in the Commission's order approving the South System II project, the circumstances underlying the project do not justify collateral in excess of three months of demand charges; and (6) that the Service Agreement, Sonat's tariff, and Commission creditworthiness policies do not permit Sonat to demand collateral in excess of three months' demand charges once service has commenced.

Any person desiring to be heard or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. The answer to the complaint and all comments, interventions or protests must be filed on or before the comment date. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or for TTY, contact (202) 502-8659. The answer to the complaint, comments, protests and interventions may be filed electronically via the Internet in lieu of paper; see 18 CFR 385.2001(a)(1)(iii) and the instructions on the Commission's Web site under the “e-Filing” link. The Commission strongly encourages electronic filings.

Comment Date: April 10, 2003.

Magalie R. Salas,
Secretary.

[FR Doc. 03-8097 Filed 4-2-03; 8:45 am]

BILLING CODE 6717-01-P